DEPARTMENT OF COMMERCE

National Oceanic and Atmospheric Administration

RIN 0648-XF304

Fisheries of the South Atlantic; Southeast Data, Assessment, and Review (SEDAR); Public Meetings; Cancellation

AGENCY: National Marine Fisheries Service (NMFS), National Oceanic and Atmospheric Administration (NOAA), Commerce.

ACTION: Notice of change of schedule for SEDAR 56 South Atlantic Black Sea Bass Assessment Webinars.

SUMMARY: The SEDAR 56 assessment of the South Atlantic stock of black seabass will consist of a series webinars. Due to changes to the schedule for the stock assessment, webinars scheduled for Thursday, July 20, 2017 and Wednesday, August 16, 2017 have been cancelled. See SUPPLEMENTARY INFORMATION.

DATES: This notice serves to cancel the previously scheduled July 20, 2017 and August 16, 2017 webinars.

ADDRESSES: SEDAR address: South Atlantic Fishery Management Council, 4055 Faber Place Drive, Suite 201, N. Charleston, SC 29405; www.sedarweb.org.

FOR FURTHER INFORMATION CONTACT: Julia Byrd, SEDAR Coordinator, 4055 Faber Place Drive, Suite 201, North Charleston, SC 29405; phone: (843) 571-4366; email: julia.byrd@safmc.net.

SUPPLEMENTARY INFORMATION: The original notice published in the Federal Register on March 29, 2017 (82 FR 15495).

The Gulf of Mexico, South Atlantic, and Caribbean Fishery Management Councils, in conjunction with NOAA Fisheries and the Atlantic and Gulf States Marine Fisheries Commissions, have implemented the Southeast Data, Assessment and Review (SEDAR) process, a multi-step method for determining the status of fish stocks in the Southeast Region. The product of the SEDAR webinar series will be a report which compiles and evaluates potential datasets and recommends which datasets are appropriate for assessment analyses, and describes the fisheries, evaluates the status of the stock, estimates biological benchmarks, projects future population conditions, and recommends research and monitoring needs. Participants for SEDAR Workshops are appointed by the Gulf of Mexico, South Atlantic, and Caribbean Fishery Management Councils and NOAA Fisheries Southeast Regional Office, Highly Migratory Species Management Division, and Southeast Fisheries Science Center. Participants include: Data collectors and database managers; stock assessment scientists, biologists, and researchers; constituency representatives including fishermen, environmentalists, and non-governmental organizations (NGOs); international experts; and staff of Councils, Commissions, and state and federal agencies.

During its June 2017 meeting, the South Atlantic Fishery Management Council made a decision to change the terminal year for the data used on the stock assessment for the South Atlantic black sea bass stock. The decision affects the schedule for the stock assessment and consequently, the scheduled webinars as previously published in the Federal Register. An updated schedule will be published once the details are available.

Dated: June 26, 2017.
Jeffrey N. Lonergan,
Acting Deputy Director, Office of Sustainable Fisheries, National marine Fisheries Service.

[FR Doc. 2017-13662 Filed 6-29-17; 8:45 am]

BILLING CODE 3510-22-P